DEPARTMENT OF TRANSPORTATION

National Highway Traffic Safety Administration

Federal Motor Vehicle Theft Prevention Standard; Final Listing of 2011 Light Duty Truck Lines Subject to the Requirements of This Standard and Exempted Vehicle Lines for Model Year 2011; Correction

AGENCY: National Highway Traffic Safety Administration (NHTSA), Department of Transportation (DOT).

ACTION: Notice; correction.

SUMMARY: The National Highway Traffic Safety Administration (NHTSA) published a document in the Federal Register of June 21, 2010, announcing NHTSA's determination that there were no new model year (MY) 2011 light-duty truck lines subject to the requirements of the Federal motor vehicle theft prevention standard. The final rule also identified those vehicle lines that had been granted an exemption from the parts-marking requirements for the 2011 model year and those vehicle lines the agency removed because certain vehicle lines had been discontinued more than 5 years ago. This document corrects certain information published in the SUPPLEMENTARY INFORMATION section and Appendix A-I listing of the final rule. All previous information associated with the published notice remains the same.

FOR FURTHER INFORMATION CONTACT: Ms. Rosalind Proctor, Office of International Policy, Fuel Economy and Consumer Programs, NHTSA, 1200 New Jersey Avenue, SE., Washington, DC 20590. Ms. Proctor's telephone number is (202) 366-0846. Her fax number is (202) 493-0073.

Correction

In the Federal Register of June 21, 2010, in FR Doc. 2010-14840, on page 34947, in the first column, add the following at the end of the fourth paragraph of the Supplementary Information section:

“The agency also granted Jaguar Land Rover North America, LLC., a full exemption from the parts marking requirements of the Theft Prevention Standard for the Jaguar XJ vehicle line beginning with MY 2010.”

On page 34947, in the first column, fifth paragraph, line six, correct the Supplementary Information section to remove the erroneous identification of the “Jaguar XK” as having been a vehicle line discontinued more than 5 years ago.

On page 34948, second column of the Appendix A-I listing, add the “XJ” vehicle line to the Jaguar entry of vehicle lines exempted from the parts marking requirements of 49 CFR part 541.

Issued on: June 25, 2010.
Nathaniel Beuse,
Director, Office of Crash Avoidance Standards.

[FR Doc. 2010-16040 Filed 6-30-10; 8:45 am]

BILLING CODE 4910-59-P